DEPARTMENT OF HEALTH AND HUMAN SERVICES

Centers for Medicare & Medicaid Services

[Document Identifiers: CMS-10410, CMS-10554, CMS-10791 and CMS-10377]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by March 7, 2022.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: ___, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10410 Medicaid Program; Eligibility Changes under the Affordable Care Act of 2010

CMS-10554 Children's Health Insurance Program Managed Care and Supporting Regulations

CMS-10791 Requirements Related to Surprise Billing; Part II

CMS-10377 Student Health Insurance Coverage

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: Medicaid Program; Eligibility Changes under the Affordable Care Act of 2010; Use: The State Medicaid and CHIP agencies will collect all information needed to determine and redetermine eligibility for Medicaid and will transmit information, as appropriate, to other insurance affordability programs. The information collection requirements will assist the public to understand information about health insurance affordability programs and will assist CMS in ensuring the seamless, coordinated, and simplified system of Medicaid and CHIP application, eligibility determination, verification, enrollment, and renewal. Form Number: CMS-10410 (OMB control number: 0938-1147); Frequency: Occasionally; Affected Public: Individuals or Households, and State, Local, and Tribal Governments; Number of Respondents: 25,500,096; Total Annual Responses: 76,500,218; Total Annual Hours: 21,276,302. (For policy questions regarding this collection contact Stephanie Bell at 410-786-0617.)

2. Type of Information Collection Request: Extension of a currently approved collection; Title of Information Collection: Children's Health Insurance Program Managed Care and Supporting Regulations; Use: CHIP enrollees use the information collected and reported as a result of this regulation to make informed choices regarding health care, including how to access health care services and the grievance and appeal system. States use the information collected and reported as part of contracting processes with managed care entities, as well as its compliance oversight role. CMS uses the information collected and reported in an oversight role of State CHIP managed care programs and CHIP state agencies. Form Number: CMS-10554 (OMB control number: 0938-1282); Frequency: Yearly; Affected Public: State, Local, and Tribal Governments, and the Private Sector (Business or other for-profits and Not-for-profit institutions); Number of Respondents: 62; Total Annual Responses: 2,735,906; Total Annual Hours: 410,989. (For policy questions regarding this collection contact Meg Barry at 410-786-1536.)

3. Type of Information Collection Request: Revision of a currently approved collection; Title of Information Collection: Requirements Related to Surprise Billing; Part II; Use: The information requirements have two components: Good faith estimates and patient-provider dispute resolution for uninsured (or self-pay) individuals. Good Faith Estimates. Providers and facilities must furnish a good faith estimate of expected items and services beginning on or after January 1, 2022, which will allow uninsured (or self-pay) individuals to have access to information about health care pricing before receiving care. This information will allow uninsured (or self-pay) individuals to evaluate options for receiving health care, make cost-conscious health care purchasing decisions, and reduce surprises in relation to their health care costs for items and services. Additionally, uninsured (or self-pay) individuals will need a good faith estimate to initiate the patient-provider dispute resolution process. Patient-Provider Dispute Resolution Process. HHS will request information from uninsured (or self-pay) individuals in order to initiate patient-provider dispute resolution process. This information will be used to help determine eligibility for the patient-provider dispute resolution process and is necessary for determining which provider or facility should be contacted for dispute resolution. Providers and facilities are required to submit information to SDR entities to inform the SDR entity's payment determinations. Form Number: CMS-10791 (OMB control number: 0938-NEW); Frequency: Annually; Affected Public: Private sector (Business or other for-profits and Not-for-profit institutions); Number of Respondents: 238,942; Total Annual Responses: 398,680; Total Annual Hours: 6,564,413. For policy questions regarding this collection contact Janny Frimpong at 301-492-4174.

4. Type of Information Collection Request: Extension of a currently approved collection; Title of Information Collection: Student Health Insurance Coverage; Use: Under the Student Health Insurance Coverage Final Rule published March 21, 2012 (77 FR 16453), student health insurance coverage is a type of individual health insurance coverage provided pursuant to a written agreement between an institution of higher education (as defined in the Higher Education Act of 1965) and a health insurance issuer, and provided to students who are enrolled in that institution and their dependents. The Patient Protection and Affordable Care Act; HHS Notice of Benefit and Payment Parameters for 2017 Final Rule provided that, for policy years beginning on or after July 1, 2016, student health insurance coverage is exempt from the actuarial value (AV) requirements under section 1302(d) of the Affordable Care Act, but must provide coverage with an AV of at least 60 percent. This provision also requires issuers of student health insurance coverage to specify in any plan materials summarizing the terms of the coverage the AV of the coverage and the metal level (or the next lowest metal level) the coverage would otherwise satisfy under § 156.140. This disclosure will provide students with information that allows them to compare the student health coverage with other available coverage options. Form Number: CMS-10377 (OMB control number 0938-1157); Frequency: Annually; Affected Public: Private Sector; Number of Respondents: 48; Total Annual Responses: 953,541; Total Annual Hours: 48. For policy questions regarding this collection contact Russell Tipps at 301-492-4371.

Dated: December 29, 2021.
William N. Parham, III
Director, Paperwork Reduction Staff, Office of Strategic Operations and Regulatory Affairs.

[FR Doc. 2021-28527 Filed 1-4-22; 8:45 am]

BILLING CODE 4120-01-P